DEPARTMENT OF ENERGY

Federal Energy Regulatory Commission

[Docket No. CP02-31-000]

Iroquois Gas Transmission System, L.P.; Notice of Intent To Prepare an Environmental Assessment and Request for Comments

December 14, 2001.

On November 20, 2001, Iroquois Gas Transmission System, L.P., (Iroquois) filed an application to construct and to operate a new compressor station at Brookfield, Connecticut. Iroquois' application was filed with the Commission under Section 7 of the Natural Gas Act and Part 157 of the Commission's regulations. The application was noticed on November 29, 2001. On December 5, 2001, Commission staff conducted a site visit and met with numerous Brookfield property owners. Based on review of the application, the site visit, and comments received during the site visit, we have decided to prepare an environmental assessment (EA) to evaluate the environmental impacts of the proposed project. Comments received in response to this notice will be used in a scoping process to identify the issues to be evaluated in the EA. The Commission will consider the EA prior to taking any final action on the application.

Summary of the Proposed Project

Iroquois requests authorization to construct and to operate a compressor station near an existing meter station on High Meadow Road, in the county of Fairfield, in Brookfield , Connecticut. Iroquois has an option to purchase a 65 acre parcel bounded by High Meadow Road, an existing meter station, residential property, Whisconier Middle School, railroad tracks, and a pond. On that parcel, Iroquois would install or construct:

• a new 10,000 horsepower compressor;

• a turbo-compressor building and 3 additional control/monitoring/maintenance buildings;

• a 500-foot long access road;

• security fence;

• water well; and septic system.

All proposed construction would occur either on the 65-acre parcel described above or on the existing 3.3 acre meter station, owned by Iroquois.

The EA Process

The National Environmental Policy Act (NEPA) requires the Commission to take into account the environmental impacts that could result from an action whenever it considers the issuance of a Certificate of Public Convenience and Necessity. NEPA also requires Commission staff to discover and address concerns the public may have about proposals. This is called “scoping”. The main goal of the scoping process is to focus the analysis in the EA on the important environmental issues. By this Notice of Intent, the Commission requests public comments on the scope of the issues to be addressed in the EA. All comments received are considered during the preparation of the EA. State and local government representatives are encouraged to notify their constituents of this proposed action and to encourage them to comment on their areas of concern.

We have already identified several issues that we think deserve attention based on our preliminary review. This list may change based on receipt of additional information and comments.

• Any potential threat of operation of the compressor station to life, health, and property at Whisconier Middle School and adjoining properties.

• Noise from compressor operation and system blow downs.

• Visual compatibility of existing and proposed structures with local architecture and visual setting.

• Visual screening of existing and proposed facilities.

• Degradation of local air quality and the potential for formation of a steam plume from the cooling vents.

• Design constraints that limit the potential location of alternative sites.

• Impacts of construction and operation to property values in the adjoining community.

By this notice, Iroquois is encouraged to provide any additional information regarding the above issues to supplement its application by the close of the comment period described in the public participation section.

The EA will also evaluate possible alternatives to the proposed project and make recommendations on how to lessen or avoid impacts. An independent analysis of issues will be in the EA. Depending on the comments received during the scoping process, the EA may be published and mailed to federal, state, and local agencies, public groups, interested individuals, affected landowners, newspapers, libraries, and the Commission's official service list for this proceeding. A comment period will be allotted for review if the EA is published. We will consider all comments on the EA before we make our recommendations to the Commission.

To ensure your comments are considered, please carefully follow the instructions in the section that follows.

Public Participation

Your comments are requested. To ensure that your comments are addressed in the EA, we request that you file your environmental comments with the Commission as directed below:

• Send an original and two copies of your letter to Linwood Watson, Jr., Acting Secretary, Federal Energy Regulatory Commission, 888 First Street, NE, Room 1A Washington, DC 20426.

• Label one copy for the attention of GHG.

• Reference Docket No. CP02-31-000 in the cover letter.

• Mail your comments so that they are received on or before January 18, 2002.

Comments may also be filed electronically via the Internet in lieu of paper. See 18 CFR 385.2001(a)(1)(iii) and the instructions on the Commission's web site at http://www.ferc.gov under the “efiling” link and the link to the User's Guide.

Becoming an Intervenor

In addition to involvement in the EA scoping process, you may want to become a party to the proceeding known as an “intervenor”. Intervenors have the right to receive copies of material filed with the Commission and any case-related issuances by the Commission. Further, an intervenor also has the right to request rehearing on the Commission's decision. An intervenor has certain responsibilities including, providing 14 copies of its filings to the Secretary of the Commission and must send a copy of its filings to the applicant and all other parties that intervened in the proceeding (Commission's service list). If you want to become an intervenor, you must file a motion to intervene according to Rule 214 of the Commission's Rules of Practices and Procedure (18 CFR 385.214). Requests to intervene may also be filed electronically.

Affected landowners and parties with environmental concerns may be granted intervenor status upon showing clear and direct interest in this proceeding which would not be adequately represented by any other parties. You do not need to be an intervenor to have your environmental comments considered.

Additional Information

Additional information about the proposed project may be available from the Commission's Office of External Affairs at (202) 208-1088. Copies of the application and any case-specific filings or issuances are available on the FERC website (www.ferc.gov) at the RIMS ¹ or CIPS ² links, using Docket No. CP02-31.

¹ For assistance call (202) 208-2222.

² For assistance call (202) 208-2474.

Linwood A. Watson, Jr.,
Acting Secretary.

[FR Doc. 01-31310 Filed 12-19-01; 8:45 am]

BILLING CODE 6717-01-P